DEPARTMENT OF DEFENSE

Office of the Secretary

Defense Business Board; Notice of Advisory Committee Meeting

AGENCY: Department of Defense, DoD.

ACTION: Notice of Advisory Committee Meeting.

SUMMARY: The Defense Business Board (DBB) will meet in open session on Wednesday, September 6, 2006 at the Pentagon, Washington, DC from 9:30 a.m. until 10 a.m. The mission of the DBB is to advise the Secretary of Defense on effective strategies for implementation of best business practices of interest to the Department of Defense. At this meeting, the Board will deliberate on their findings and recommendations related to Military Health System Governance and to the Alignment and Configuration of Business Activities.

DATES: Wednesday, September 6, 2006, 9:30 a.m. to 10 a.m.

ADDRESSES: 1155 Defense Pentagon, 2C554, Washington, DC 20301-1155.

FOR FURTHER INFORMATION CONTACT: Members of the public who wish to attend the meeting must contact the Defense Business Board no later than Wednesday, August 30th for further information about escort arrangements in the Pentagon. Additionally, those who wish to provide input to the Board should submit written comments by Wednesday, August 30th to allow time for distribution to the Board members prior to the meeting.

The DBB may be contacted at: Defense Business Board, 1155 Defense Pentagon, Room 3C288, Washington, DC 20301-1155, via e-mail at defensebusinessboard2@osd.mil or via phone at (703) 697-2168.

Due to an administrative oversight, this notice has not been published within the 15 day notification requirement.

Dated: August 22, 2006.
L.M. Bynum,
OSD Federal Register Liaison Officer, Department of Defense.

[FR Doc. 06-7187 Filed 8-23-06; 10:48 am]

BILLING CODE 5001-06-M